DEPARTMENT OF THE INTERIOR

Fish and Wildlife Service

50 CFR Part 17

[Docket No. FWS-R4-ES-2016-0121; 4500030113]

RIN 1018-BB46

Endangered and Threatened Wildlife and Plants; 6-Month Extension of Final Determination on the Proposed Threatened Status for the Louisiana Pinesnake

AGENCY: Fish and Wildlife Service, Interior.

ACTION: Proposed rule; reopening of the comment period.

SUMMARY: We, the U.S. Fish and Wildlife Service (Service), announce a 6-month extension of the final determination of whether to list the Louisiana pinesnake (Pituophis ruthveni) as a threatened species. We also reopen the comment period on the proposed rule to list the species for an additional 30 days. We are taking this action based on substantial disagreement regarding available information related to the interpretation of the available survey data used to determine the Louisiana pinesnake's status and trends. Comments previously submitted need not be resubmitted as they are already incorporated into the public record and will be fully considered in the final rule. We will submit a final listing determination to the Federal Register for publication on or before April 6, 2018.

DATES: The comment period for the proposed rule published October 6, 2016 (81 FR 69454), is reopened. We will accept comments received or postmarked on or before November 6, 2017. If you comment using the Federal eRulemaking Portal (see ADDRESSES), you must submit your comments by 11:59 p.m. Eastern Time on the closing date.

ADDRESSES: Document availability: You may obtain copies of the proposed rule on the Internet at http://www.regulations.gov at Docket No. FWS-R4-ES-2016-0121. Copies of the proposed rule are also available at https://www.fws.gov/southeast/lafayette/.

Comment submission: You may submit comments by one of the following methods:

1. Federal eRulemaking Portal: http://www.regulations.gov. In the Search box, enter the docket number for this proposed rule, which is FWS-R4-ES-2016-0121. Then click on the Search button. You may submit a comment by clicking on “Comment Now!” Please ensure that you have found the correct rulemaking before submitting your comment.

2. U.S. mail or hand delivery: Public Comments Processing, Attn: Docket No. FWS-R4-ES-2016-0121; U.S. Fish and Wildlife Service, MS: BPHC; 5275 Leesburg Pike; Falls Church, VA 22041-3803.

FOR FURTHER INFORMATION CONTACT: Joseph Ranson, Field Supervisor, U.S. Fish and Wildlife Service, Louisiana Ecological Services Office, 646 Cajundome Blvd., Suite 400, Lafayette, LA; telephone 337-291-3101. Persons who use a telecommunications device for the deaf (TDD) may call the Federal Relay Service at 800-877-8339.

SUPPLEMENTARY INFORMATION:

Background

On October 6, 2016 (81 FR 69454), we published under the Endangered Species Act of 1973, as amended (Act; 16 U.S.C. 1531 et seq.), a proposed rule to add the Louisiana pinesnake as a threatened species to the List of Endangered and Threatened Wildlife in title 50 of the Code of Federal Regulations (50 CFR 17.11(h)). That proposal had a 60-day comment period, ending December 5, 2016. We also solicited and received independent scientific review of the information contained in the proposed rule from peer reviewers with expertise in the Louisiana pinesnake or similar species, in accordance with our July 1, 1994, peer review policy (59 FR 34270). For a description of previous Federal actions concerning the Louisiana pinesnake, please refer to the proposed listing rule.

Section 4(b)(6) of the Act and its implementing regulations at 50 CFR 424.17(a) require that we take one of three actions within 1 year of a proposed listing and concurrent proposed designation of critical habitat: (1) Finalize the proposed rule; (2) withdraw the proposed rule; or (3) extend the final determination by not more than 6 months, if there is substantial disagreement regarding the sufficiency or accuracy of the available data relevant to the determination.

Since the publication of the October 6, 2016, proposed listing rule (81 FR 69454), there has been substantial disagreement regarding available information related to the interpretation of the available survey data used to determine the Louisiana pinesnake's status and trends. Specifically, during the public comment period, we received multiple comments on the proposed listing and the sufficiency or accuracy of the available data used to support it. In particular, the comments reflected significant disagreement, including from one of the peer reviewers, regarding the interpretation of the available data used to determine the Louisiana pinesnake's status and trends, including the current conservation status of the Louisiana pinesnake in Louisiana and, particularly, in Texas. Therefore, in consideration of these disagreements, we have determined that a 6-month extension of the final determination for this rulemaking is necessary, and we are hereby extending the final determination for 6 months in order to solicit and consider additional information that will help to clarify these issues and to fully analyze data that are relevant to our final listing determination. With this 6-month extension, we will make a final determination on the proposed rule no later than April 6, 2018.

Information Requested

We will accept written comments and information during this reopened comment period on our proposed listing rule. We will consider information and recommendations from all interested parties. We intend that any final action resulting from the proposal be as accurate as possible and based on the best available scientific and commercial data.

We are particularly interested in new information and comments regarding:

(1) The interpretation of scientific literature in the proposed rulemaking, and whether we overlooked any scientific literature in our analysis. In particular, some commenters expressed concern that there is insufficient scientific information (survey data in particular) to adequately assess the conservation status of the species, while others expressed concern that the available scientific information supports an endangered determination.

(2) Additional survey information, including maps, throughout the Louisiana pinesnake's range, especially for Texas.

(3) Trapping results to determine the Louisiana pinesnake's estimated occupied habitat areas (EOHAs). During the peer review period, peer reviewers were critical of methods used to determine EOHAs and questioned the interpretation that resulted from our analysis.

If you previously submitted comments or information on the October 6, 2016, proposed rule (81 FR 69454), please do not resubmit them. We have incorporated previously submitted comments into the public record, and we will fully consider them in the preparation of our final determination. Our final determination concerning the proposed listing will take into consideration all written comments and any additional information we receive.

You may submit your comments and materials concerning the proposed rule by one of the methods listed in ADDRESSES, above. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing the proposed rule, will be available for public inspection on http://www.regulations.gov, or by appointment, during normal business hours, at the U.S. Fish and Wildlife Service, Louisiana Ecological Services Office (see FOR FURTHER INFORMATION CONTACT).

Authority: The authority for this action is the Endangered Species Act of 1973, as amended (16 U.S.C. 1531 et seq.).

Dated: August 30, 2017.
James W. Kurth,
Acting Director, U.S. Fish and Wildlife Service.

[FR Doc. 2017-21591 Filed 10-5-17; 8:45 am]

BILLING CODE 4333-15-P